DEPARTMENT OF JUSTICE

Antitrust Division

Notice Pursuant to the National Cooperative Research and Production Act of 1993—Telemanagement Forum

Notice is hereby given that, on January 21, 2005, pursuant to section 6(a) of the National Cooperative Research and Production Act of 1993, 15 U.S.C. 4301 et seq. (“the Act”), Telemanagement Forum (“the Forum”) has filed written notifications simultaneously with the Attorney General and the Federal Trade Commission disclosing changes in its membership. The notifications were filed for the purpose of extending the Act's provisions limiting the recovery of antitrust plaintiffs to actual damages under specified circumstances. Specifically, 7th Catalyst, Inc., Toronto, Ontario, CANADA; Agilance, Inc., Outremont, Quebec, CANADA; AMT Group, Moscow RUSSIA; ASPOne, Chicago, IL; Avisto Telecom SARL, Vallauris, FRANCE; Axon Solutions Ltd., Egham, Surrey, UNITED KINGDOM; Billing College, Teaneck, NJ; BOC Iberica, Madrid, SPAIN; Business Computer Center, St. Petersburg, RUSSIA; Cherrysoft Technologies Limited, GUNIDY/Chennai, TamilNadu, INDIA; ClickSoftware, Inc., Burlington, MA; Cognera Ltd., Natanya, ISRAEL; Croucher Consultants Ltd., Pease Pottage, West Sussex, UNITED KINGDOM; Defense Information Systems Agency, Fort Monmouth, NJ; DigitalFuel, San Mateo, CA; DMR Consulting Group, Chile S.A., Comuna De La Condes, Santiago De Chile, CHILE; DST Innovis, El Dorado Hills, CA; DynamicCity, Lindon, UT; ECSi, Thorurhill, Ontario, CANADA; Ernst & Young Audit Sp. z.o.o., Warszawa, POLAND, EXIS I.T., Athens, GREECE; FBS, Ipswich, Suffolk, UNITED KINGDOM; Gamma Projects, Monmouthshire, South Wales, UNITED KINGDOM; General Post and Telecommunication Company, London, UNITED KINGDOM; Guoxin Lucent Technologies Network Technologies Co., Ltd., Pudong, Shanghai, PEOPLES REPUBLIC OF CHINA; Heerklotz GmbH, Olching, GERMANY; HIKESIYA Co., Ltd., Yokohama City, Kanagawa, JAPAN; ICE systems d.o.o., Slatina, CROATIA; Inet Technologies, Inc., Richardson, TX; InferData, Mountain View, CA; InfoRoad AB, Uppsala, SWEDEN; Invocom Limited, Reading, Berkshire, UNITED KINGDOM; Ipanema Technologies, Fontenay aux Roses, FRANCE; Japan Cable and Telecommunications Association, Nishigotanda, Shinagawa-ku, Tokyo, JAPAN; Johns Hopkins University Applied Physics Lab, Laurel, MD; LG Telecom, Seoul, REPUBLIC OF KOREA; Matav Hungarian Telecom Company Ltd., Budapest, HUNGARY; MCI, Colorado Springs, CO; MDAPCE, Colorado Springs, CO; Meriton Networks, Ottawa, Ontario, CANADA; Mobile Cohesion Ltd., Belfast, County Antrim, UNITED KINGDOM; Nihon Unisys, Ltd., Tokyo, JAPAN; Object Management Group, Needham, MA; OJ & Builders Corp., Miami, FL; Open Telecommunications Limited, Melbourne, Victoria, AUSTRALIA; Openet Telecom, Dublin, IRELAND; OSS Observer, Durham, NH; Pannon GSM, Budaors, HUNGARY; Pantero Corp., Waltham, MA; Pedestal Networks, Fremont, CA; Pelagic Group, Singapore, SINGAPORE; Pivetal, Southampton, FRANCE; Portal Software, Inc., Cupertino, CA; Praesidium Services Ltd., Reading, Berkshire, UNITED KINGDOM; QoSmetrics, Massy, FRANCE; Raptor Networks Technologies, Santa Ana, CA; Rodopi Software, San Diego, CA; Rogers Communications Inc., Toronto, Ontario, CANADA; RosettaNet, Santa Ana, CA; Royah Company, Jeddah, SAUDI ARABIA; Royal KPN N.V., Den Haag, GA, THE NETHERLANDS; S&T, Austria GMGH, Vienna, AUSTRIA; Service Management Alliance, Bellevue, WA; SESI, London, UNITED KINGDOM; Simpler Networks, Inc., Dorval, Quebec, CANADA; SITA, Cointrin, Geneva, SWITZERLAND; SunTec Business Solutions Pvt Ltd., Thiruvananthapuram, Kerala, INDIA; Suntech Sp. z.o.o., Warsaw, POLAND; Tata Consultancy Services, Taramani Chennai, INDIA; TechOne, Inc., Oakland, CA; TelcoPro Limited, Castlebar, County Mayo, IRELAND; Telecommunications Division, Sacramento, CA; Telekom Slovenije, Ljubljana, SLOVENIA; TICO GmGH, Weininger, CH, SWITZERLAND; TideStone Software (Shanghai) Corp., Shanghai, PEOPLES REPUBLIC OF CHINA, CHINA; T-Mobile (UK), Hatfield, Hertfordshire, UNITED KINGDOM; and Tonex, Inc., Richardson, TX have been added as parties to this venture.

Also, Actix, Inc., Hammersmith, London, UNITED KINGDOM; Bauer & Partner AG, The Business and Technology Group Europe, Neuss, GERMANY; City of Toronto, Toronto, Ontario, CANADA; Coriolis Networks, Boxboro, MA; Elematics, Portland, OR; Java Wireless Competency Centre, Singapore, SINGAPORE; Joule Software, Inc., Austin, TX; JT Venture Partners, Denville, NJ; Mapinfo, Windsor, Berkshire, UNITED KINGDOM; NDLO/CIS, Baerum, Postterminal, NORWAY; Panduit Corporation, Tinley Park, IL; Polaris Networks, San Jose, CA; SAIC Limited, London, UNITED KINGDOM; Solid, Mt. View, CA; Tecnosistemi Spa Tlc Engineering & Services, Rozzano, Milanofiori, ITALY; TIBCO Talarian, Inc., Palo Alto, CA; University College London, Bath, Avon, UNITED KINGDOM; and VPI Systems, Inc., Berlin, GERMANY have withdrawn as parties to this venture.

The following members have changed their names: Anseres Consulting & Projectmanagement has changed its name to Anseres Consulting & Project Management, Rendsburg, GERMANY; Comparex Africa has changed its name to Business Connexion (Pty) Ltd., Halfway House, Gauteng, SOUTH AFRICA; GE Network Solutions has changed its name to GE Energy, Chesterton, Cambridge, UNITED KINGDOM; n Tels Co., Ltd. has changed its name to nTels Co., Ltd., Short Hills, NJ; SMA (Service Management Alliance) has changed its name to Service Management Alliance, Bellevue, WA; Staffware has changed its name to Tibco Software, Maidenhead, Berkshire, UNITED KINGDOM; Westel Mobile Company has changed its name to T-Mobile Hungary Communications Company Limited by Shares, Budapest, HUNGARY; and St. Paul Venture Capital has changed its name to Vesbridge Partners, Minneapolis, MN.

No other changes have been made in either the membership or planned activity of the group research project. Membership in this group research project remains open, and the forum intends to file additional written notification disclosing all changes in membership.

On October 21, 1988, the Forum filed its original notification pursuant to section 6(a) of the Act. The Department of Justice published a notice in the Federal Register pursuant to section 6(b) of the Act on December 8, 1988 (53 FR 49615).

The last notification was filed with the Department on June 24, 2004. A notice was published in the Federal Register pursuant to section 6(b) of the Act on August 18, 2004 (69 FR 51329).

Dorothy B. Fountain,
Deputy Director of Operations, Antitrust Division.

[FR Doc. 05-5892 Filed 3-24-05; 8:45 am]

BILLING CODE 4410-11-M